ENVIRONMENTAL PROTECTION AGENCY

[ER-FRL-9040-8]

Environmental Impact Statements; Notice of Availability

Responsible Agency: Office of Federal Activities, General Information (202) 564-7156 or https://www2.epa.gov/nepa/.

Weekly receipt of Environmental Impact Statements

Filed 08/06/2018 Through 08/10/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180181, Draft, DOC, NAT,Draft Environmental Impact Statement for the Summer Flounder Commercial Issues Amendment, Comment Period Ends: 10/12/2018, Contact: Emily Gilbert 978-491-8024

EIS No. 20180182, Draft, USFS, NV,Lee Canyon EIS, Comment Period Ends: 10/01/2018, Contact: Jonathan Stein 702-515-5418

EIS No. 20180183, Draft, TVA, TN,Transmission System Vegetation Management Programmatic EIS, Comment Period Ends: 10/01/2018, Contact: Anita E. Masters 423-751-8697

EIS No. 20180184, Draft, BLM, UT,Draft Bears Ears National Monument Indian Creek and Shash Jaa Units Monument Management Plans and Associated Environmental Impact Statement, Comment Period Ends: 11/15/2018, Contact: Lance Porter 435-259-2100

EIS No. 20180185, Draft, BLM, UT,Grand Staircase-Escalante National Monument-Grand Staircase, Kaiparowits, and Escalante Canyon Units and Federal Lands Previously Included in the Monument That Are Excluded From the Boundaries Draft Resource Management Plans and Associated Environmental Impact Statement, Comment Period Ends: 11/15/2018, Contact: Matt Betenson 435-644-1200

EIS No. 20180186, Final, USFS, OR,East Hills Project, Review Period Ends: 09/17/2018, Contact: Jody Perozzi 541-353-2723

Amended Notice

Revision to the Federal Register Notice published 07/06/2018, extend comment period from 08/20/2018 to 09/04/2018.

EIS No. 20180149, Draft, FHWA, ND, Little Missouri Crossing, Contact: Gary Goff 701-221-9466

Dated: August 14, 2018.
Robert Tomiak,
Director, Office of Federal Activities.

[FR Doc. 2018-17747 Filed 8-16-18; 8:45 am]

BILLING CODE 6560-50-P